DEPARTMENT OF VETERANS AFFAIRS

Advisory Committee on Prosthetics and Special Disabilities Programs; Notice of Meeting

The Department of Veterans Affairs (VA) gives notice under Public Law 92-463 (Federal Advisory Committee Act) that a meeting of the Advisory Committee on Prosthetics and Special Disabilities Program will be held March 20-21, 2007 in Room 230, at VA Central Office, 810 Vermont Avenue, NW., Washington, DC. The sessions will convene at 8:30 a.m. each day and will adjourn at 4:30 p.m. on March 20 and will end at 12 noon on March 21. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or vision impairment, loss of or loss of use of extremities, deafness or hearing impairment, or other serious incapacities in terms of daily life functions.

On March 20, the Committee will be briefed by the Chief of Rehabilitation Service; the Director, Blind Rehabilitation Service; the Chief Consultant, Prosthetics and Clinical Logistics; the Chief Consultant, Spinal Cord Injury and Disorder Service; and the Acting Director of Rehabilitation Research and Development Service. On March 21, the Committee will be briefed by the Director of the Veterans Benefits Administration, Compensation and Pension Service.

No time will be allocated for receiving oral presentations from the public. However, members of the public may direct questions or submit written statements for review by the Committee in advance of the meeting to Ms. Cynthia Wade, Designated Federal Officer, Veterans Health Administration, Patient Care Services, Rehabilitation Strategic Healthcare Group (117), Department of Veterans Affairs, 810 Vermont Avenue, NW., Washington, DC 20420. any member of the public wishing to attend the meeting should contact Ms. Wade at (202) 273-8485.

Dated: February 21, 2007.
By Direction of the Secretary.
E. Philip Riggin,
Committee Management Officer.

[FR Doc. 07-976 Filed 3-1-07; 8:45 am]

BILLING CODE 8320-01-M